DEPARTMENT OF THE INTERIOR

National Park Service

Final General Management Plan and Comprehensive River Management Plan/Middle and South Forks of the Kings River and North Fork of the Kern River; Sequoia and Kings Canyon National Parks, Tulare and Fresno Counties, California; Notice of Availability of Final Environmental Impact Statement

Summary: Pursuant to § 102(2)(C) of the National Environmental Policy Act of 1969 (Pub. L. 91-190, as amended), and the Council on Environmental Quality Regulations (40 CFR part 1500-1508), the National Park Service, Department of the Interior, has prepared a Final Environmental Impact Statement (EIS) for the General Management Plan (GMP) and Comprehensive River Management for the Middle and South Forks Kings River and the North Fork Kern River and for Sequoia and Kings Canyon National Parks located in California. The purpose and need for the plans is to establish a park vision for the next 15-20 years, provide direction for the management of wild and scenic rivers, replace an outdated master plan, guide management of cultural and natural resources, address unresolved issues in specific areas, and address the changing context of the parks within the regional ecosystem.

Proposed Plan and Alternatives: The final EIS describes and analyzes five alternatives which respond to both NPS planning requirements and to the issues identified during the public scoping process. The No-Action alternative would continue current management direction, and it is the baseline for comparing the other alternatives (it was originally Alternative B when the alternatives were first presented to the public in the winter of 2000). The Preferred Alternative would accommodate sustainable growth and visitor enjoyment, protect ecosystem diversity, and preserve basic character while adapting to changing user groups (this was also determined to be “environmentally preferred”). Alternative A would emphasize natural ecosystems and biodiversity, with reduced use and development; Alternative C would preserve the parks' traditional character and retain the feel of yesteryear, with guided growth; and Alternative D would preserve the basic character and adapt to changing user groups. Also included is a comprehensive river management plan for the portions of the Middle and South Forks of the Kings River and the North Fork of the Kern River, which have been designated by Congress as components of the national wild and scenic rivers system. The purpose of the river management plan is to provide direction and overall guidance on the management of lands and uses within the river corridors. Regarding wilderness, although the GMP does address compatibility of the alternatives with the park's backcountry and wilderness values, there is no new wilderness designation proposed under any of the alternatives. The foreseeable environmental consequences of each alternative, and appropriate mitigation strategies, are identified and analyzed in the EIS.

Public Review and Changes in the Final Document: Prior to development of the Draft EIS, nine scoping meetings were held, seven planning newsletters issued; alternatives planning workshops were held in seven cities; and the parks regularly communicated with the cooperating association and concessioners authorized to operate in the parks. Meetings and contacts have occurred with special use permittees, private landowners; and numerous other stakeholders. The project mailing list included more than 3700 entries. The Draft EIS was available for 150 days review during May-October, 2004. It was made available at local area libraries, and could be reviewed electronically via http://www.nps.gov/seki or http://planning.den.nps.gov/seki. Printed and CD copies were sent upon request, and also distributed to agencies and organizations listed as recipients in the Consultation and Coordination section of the EIS. Public meetings to facilitate review and comment on the Draft EIS were held during the comment period both in the parks, as well as in the following locations: Thee Rivers, Visalia, Fresno/Clovis, Sacramento, San Francisco, Los Angeles and Bishop. Approximately 400 comments were received; this information resulted in minor corrections and clarifications to the Draft EIS/GMP. Editorial changes and additional explanatory text on topics of interest were incorporated. There were no substantive changes due to public commentary.

Following the closure of the public comment period, Pub. L. 108-447 was enacted and changes to the document to accommodate this public law were made with regard to two areas with special use permits: (1) The law that appended the Mineral King area to the park in 1978 required that use of cabins at Mineral King be phased out upon the deaths of the permittees of record. Pub. L. 108-447 amended Pub. L. 95-625 by authorizing indefinite extension of special use permits to heirs, successors and assigns; and (2) Pub. L. 108-447 amended Pub. L. 99-338 to allow the Secretary to permit Southern California Edison Co. up to two additional ten-year permit periods of hydroelectric operations until 2026.

Description of Alternatives: The Final EIS for the GMP/Comprehensive River Management Plans includes four action alternatives and a no-action alternative which continues current management. The Comprehensive River management Plan would be common to every alternative. The No-Action Alternative (Continue Current Management): The parks are managed as they are now in accordance with approved plans (such as development concept plans, and the 1996 Giant Forest Interim Management Plan); negative resource impacts and visitor demands are mitigated by relocating development, reducing some uses, or confining new developed areas. Visitor uses are reassessed and revised as new information about natural and cultural resource impacts and visitor needs emerges. Current facilities are inadequate for park needs and visitor use levels, and crowding is common in some areas.

Preferred Alternative: The parks' appeal is broadened to be more relevant to diverse user groups, Increased day use is accommodated, and overnight visitation is retained. The integrity of park resources is paramount. Stronger educational and outreach programs provide enjoyment and introduce park conservation values. The basic character of park activities and the rustic architecture of facilities are retained so that the parks remain strikingly different from surrounding areas. Park administrative facilities are redesigned and may be relocated outside the parks. Park facilities accommodate sustainable growth. Stock use continues with appropriate management and monitoring.

Alternative A: Emphasize Natural Ecosystems and Biodiversity; Reduce Use and Development: The parks are natural resource preserves; they are primarily valued because they contain publicly owned resources that will be conserved for the future. Levels of use are lower than at present, and visitor experiences are more directly connected to natural resources and provide more solitude. The parks contrast strongly with surrounding lands which are continuing to develop. Park managers aggressively cooperate with the managers of surrounding lands to enhance range-wide biodiversity.

Alternative C: Preserve Traditional Character and Retain the Feel of Yesteryear; Guide Growth: The parks present a traditional character and the feeling of yesteryear, where experiences are more reminiscent of how visitors used the parks in the past. This is conveyed through rustic architecture and lower impact recreational activities (such as sightseeing and hiking) that were popular from the 1920s to the 1960s, providing an experience that is strikingly different from that in an urban setting. Redesigned developed areas accommodate limited growth; overnight stays are encouraged. Negative impacts on natural resources are controlled, so as to maintain or improve resource conditions.

Alternative D: Preserve Basic Character and Adapt to Changing User Groups; Guide Growth: The parks preserve some of their traditional character and rustic architecture, but diverse new user groups and uses are encouraged. Day use is more common. Facilities are expanded to meet users' needs, while frequent interpretive programs are offered to educate, entertain, and instill a sense of park conservation values. Negative impacts on natural resources are controlled or mitigated, so as to maintain or improve resource conditions.

Addresses and Further Information: Copies of the Final EIS will be available for public review in the office of the Superintendent and at local area public libraries, and may also be requested (by those not presently on the mailing list) by contacting the park by letter at: Final EIS/GMP, Sequoia and Kings Canyon National Parks, 47050 Generals Highway, Three Rivers, CA 93271-9651; by telephone at (559) 565-3101; or by e-mail at seki_superintendent@nps.gov. Please note that names and addresses of all respondents will become part of the public record. Our practice is to make all comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Decision: The National Park Service will execute a Record of Decision not sooner than 30 days following publication by the Environmental Protection Agency of their notice of filing of the Final EIS in the Federal Register. As a delegated EIS the official responsible for the final approval of the General Management Plan and Comprehensive River Management Plan is the Regional Director; subsequently the official responsible for implementing the new plans would be the Superintendent, Sequoia and Kings Canyon National Parks.

Dated: October 6, 2006.
George J. Turnbull,
Acting Regional Director, Pacific West Region.

[FR Doc. 06-9279 Filed 11-17-06; 8:45 am]

BILLING CODE 4310-X2-M